POSTAL REGULATORY COMMISSION

[Docket No. CP2011-49; Order No. 1921]

New Postal Product

AGENCY: Postal Regulatory Commission.

ACTION: Notice.

SUMMARY: The Commission is noticing a recent Postal Service filing requesting an amendment to Priority Mail Contract 33. This notice informs the public of the filing, invites public comment, and takes other administrative steps.

DATES: Comments are due: December 30, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Notice of Filings

III. Ordering Paragraphs

I. Introduction

On December 19, 2013, the Postal Service filed notice that it has agreed to an amendment to the existing Priority Mail Contract 33 subject to this docket.¹ The Postal Service includes two attachments in support of its Notice:

¹ Notice of United States Postal Service of Change in Prices Pursuant to Amendment to Priority Mail Contract 33, December 19, 2013 (Notice).

• Attachment A—a redacted copy of the amendment to the existing Priority Mail Contract 33, and

• Attachment B—a certification of compliance with 39 U.S.C. 3633(a).

The Postal Service also filed the unredacted amendment and supporting financial documentation under seal. The Postal Service seeks to incorporate by reference the Application for Non-Public Treatment originally filed in this docket for the protection of information that it has filed under seal. Id. at 1.

The amendment modifies the annual adjustment provision by annually adjusting the prices in Tables A, B, and C of Priority Mail Contract 33 by the most recent cell by cell increases/decreases in prices of general applicability for Priority Mail Commercial Base. Id. Attachment A at 1. In addition, the amendment modifies the annual adjustment of Table D, by adjusting the prices by the most recent cell by cell increases/decreases in prices of general applicability for Priority Mail Commercial Plus. Id. The amendment will become effective one business day following the day that the Commission issues all necessary regulatory approval. Id.

II. Notice of Filings

Interested persons may submit comments on whether the changes presented in the Postal Service's Notice are consistent with the policies of 39 U.S.C. 3632, 3633, or 3642, 39 CFR 3015.5, and 39 CFR part 3020, subpart B. Comments are due no later than December 30, 2013. The public portions of these filings can be accessed via the Commission's Web site (http://www.prc.gov).

Kenneth R. Moeller, previously designated to serve as Public Representative in this proceeding, will continue in that capacity.²

² Order No. 1734, Notice and Order Concerning Amendment to Priority Mail Contract 33, May 30, 2013, at 3.

III. Ordering Paragraphs

It is ordered:

1. The Commission reopens Docket No. CP2011-49 for consideration of matters raised by the Postal Service's Notice.

2. Kenneth R. Moeller, previously designated to serve as an officer of the Commission (Public Representative) to represent the interests of the general public in this proceeding, will continue in that capacity.

3. Comments are due no later than December 30, 2013.

4. The Secretary shall arrange for publication of this Order in the Federal Register.

By the Commission.
Ruth Ann Abrams,
Acting Secretary.

[FR Doc. 2013-30956 Filed 12-26-13; 8:45 am]

BILLING CODE 7710-FW-P